DEPARTMENT OF COMMERCE

Foreign-Trade Zones Board

[B-28-2015]

Foreign-Trade Zone (FTZ) 82—Mobile, Alabama; Notification of Proposed Production Activity; Outokumpu Stainless USA, LLC (Stainless Steel Products); Calvert, Alabama

The City of Mobile, grantee of FTZ 82, submitted a notification of proposed production activity to the FTZ Board on behalf of Outokumpu Stainless USA, LLC (Outokumpu), located in Calvert, Alabama. The notification conforming to the requirements of the regulations of the FTZ Board (15 CFR 400.22) was received on April 21, 2015.

The Outokumpu facility is located within Subzone 82I. The facility is used for the production of stainless steel mill products. Pursuant to 15 CFR 400.14(b), FTZ activity would be limited to the specific foreign-status materials/components and specific finished products described in the submitted notification (as described below) and subsequently authorized by the FTZ Board.

Production under FTZ procedures could exempt Outokumpu from customs duty payments on the foreign status materials/components used in export production. On its domestic sales, Outokumpu would be able to choose the duty rates during customs entry procedures that apply to: Granulated slag (slag sand); slag, dross and scalings; stainless steel in ingots and other primary forms; hot-rolled stainless steel coils; hot-rolled stainless steel not in coils; cold-rolled stainless steel not in coils; and, stainless steel sheets and plates (duty-free) for the foreign status materials/components noted below. Customs duties also could possibly be deferred or reduced on foreign status production equipment.

The materials/components sourced from abroad include: Fluorspar containing by weight 97% or less of calcium fluoride; ferromanganese containing by weight more than 1% but less than 2% of carbon; ferromanganese containing by weight not more than 1% of carbon; ferrosilicon containing by weight more than 80% but not more than 90% silicon; ferrosilicon containing by weight more than 90% silicon; ferrochromium; ferronickel; ferro-niobium; ferro-boron; copper waste and scrap; unwrought nickel; unwrought nickel alloys; unwrought aluminum (other than alloy); unwrought molybdenum, including bars and rods obtained by simple sintering; unwrought titanium in rock or powder form; titanium castings; and, titanium in bars, rods, profiles and wires (duty rate ranges from duty-free to 15%). The request indicates that ferrosilicon may be subject to an antidumping/countervailing duty (AD/CVD) order. The FTZ Board's regulations (15 CFR 400.14(e)) require that merchandise subject to AD/CVD actions be admitted to the zone in privileged foreign status (19 CFR 146.41). In addition, the request indicates that all foreign status ferrosilicon, molybdenum and titanium classified under HTSUS Subheadings 7202.21, 8102.94, 8108.20 and 8108.90 will be admitted to the subzone in privileged foreign status (19 CFR 146.41), thereby precluding inverted tariff benefits on such items.

Public comment is invited from interested parties. Submissions shall be addressed to the Board's Executive Secretary at the address below. The closing period for their receipt is June 17, 2015.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: April 30, 2015.
Andrew McGilvray,
Executive Secretary.

[FR Doc. 2015-11220 Filed 5-7-15; 8:45 am]

BILLING CODE 3510-DS-P